DEPARTMENT OF THE INTERIOR

Bureau of Reclamation

[RR83550000, 234R5065C6, RX.59389832.1009676; OMB Control Number 1006-0005]

Agency Information Collection Activities; Individual Landholder's and Farm Operator's Certification and Reporting Forms for Acreage Limitation

AGENCY: Bureau of Reclamation, Interior.

ACTION: Notice of information collection; request for comments.

SUMMARY: In accordance with the Paperwork Reduction Act of 1995, we, the Bureau of Reclamation, are proposing to renew an information collection.

DATES: Interested persons are invited to submit comments on or before September 8, 2023.

ADDRESSES: Send your comments on this information collection request (ICR) by email to Janice Perez, Bureau of Reclamation, Office of Policy and Programs, at janiceperez@usbr.gov. Please reference Office of Management and Budget (OMB) Control Number 1006-0005 in the subject line of your comments.

FOR FURTHER INFORMATION CONTACT: To request additional information about this ICR, contact Janice Perez by email at janiceperez@usbr.gov, or by telephone at (303) 817-4477. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This information collection is required under the Reclamation Reform Act of 1982 (RRA), Acreage Limitation Rules and Regulations, 43 CFR part 426, and Information Requirements for Certain Farm Operations In Excess of 960 Acres and the Eligibility of Certain Formerly Excess Land, 43 CFR part 428. This information collection requires certain landholders (direct or indirect landowners or lessees) and farm operators to complete forms demonstrating their compliance with the acreage limitation provisions of Federal reclamation law. The forms in this information collection are submitted to districts that use the information to establish each landholder's status with respect to landownership limitations, full-cost pricing thresholds, lease requirements, and other provisions of Federal reclamation law. In addition, forms are submitted by certain farm operators to provide information concerning the services they provide and the nature of their farm operating arrangements. All landholders whose entire westwide landholdings total 40 acres or less are exempt from the requirement to submit RRA forms. Landholders who are “qualified recipients” have RRA forms submittal thresholds of 80 acres or 240 acres depending on the district's RRA forms submittal threshold category where the land is held. Only farm operators who provide multiple services to more than 960 acres held in trusts or by legal entities are required to submit forms.

Title of Collection: Individual Landholder's and Farm Operator's Certification and Reporting Forms for Acreage Limitation, 43 CFR part 426 and 43 CFR part 428.

OMB Control Number: 1006-0005.

Form Numbers: Form 7-2180, Form 7-2180EZ, Form 7-2181, Form 7-2184, Form 7-2190, Form 7-2190EZ, Form 7-2191, Form 7-2194, Form 7-21TRUST, Form 7-21PE, Form 7-21PE-IND, Form 7-21FARMOP, Form 7-21VERIFY, Form 7-21FC, Form 7-21XS, Form 7-21XSINAQ, Form 7-21CONT-I, Form 7-21CONT-L, Form 7-21CONT-O, and Form 7-21INFO.

Type of Review: Extension of a currently approved collection.

Respondents/Affected Public: Landholders and farm operators of certain lands in our projects, whose landholdings exceed specified RRA forms submittal thresholds.

Total Estimated Number of Annual Respondents: 5,544.

Total Estimated Number of Annual Responses: 5,654.

Estimated Completion Time per Response: See table below.

Total Estimated Number of Annual Burden Hours: 5,087 hours.

Respondent's Obligation: Mandatory.

Frequency of Collection: Annually.

Total Estimated Annual Nonhour Burden Cost: None.

Form No. | Burden estimate per form (in minutes) | Number of respondents | Annual number of responses | Annual burden on respondents (in hours)
Form 7-2180 | 60 | 1,967 | 2,006 | 2,006
Form 7-2180EZ | 45 | 218 | 222 | 167
Form 7-2181 | 78 | 1,076 | 1,097 | 1,426
Form 7-2184 | 45 | 10 | 10 | 8
Form 7-2190 | 60 | 133 | 136 | 136
Form 7-2190EZ | 45 | 32 | 33 | 25
Form 7-2191 | 78 | 81 | 83 | 108
Form 7-2194 | 45 | 4 | 4 | 3
Form 7-21PE | 75 | 141 | 144 | 180
Form 7-21PE-IND | 12 | 20 | 20 | 4
Form 7-21TRUST | 60 | 398 | 406 | 406
Form 7-21VERIFY | 12 | 688 | 702 | 140
Form 7-21FC | 30 | 372 | 379 | 190
Form 7-21XS | 30 | 304 | 310 | 155
Form 7-21FARMOP | 78 | 100 | 102 | 133
Totals |  | 5,544 | 5,654 | 5,087

An agency may not conduct or sponsor and a person is not required to respond to a collection of information unless it displays a currently valid OMB control number.

The authority for this action is the Paperwork Reduction Act of 1995 (44 U.S.C. 3501 et seq.).

Christopher Beardsley,
Director, Policy and Programs.

[FR Doc. 2023-14438 Filed 7-7-23; 8:45 am]

BILLING CODE 4332-90-P